Title 3—

The President

Executive Order 13895 of October 22, 2019

President's Council of Advisors on Science and Technology

By the authority vested in me as President by the Constitution and the laws of the United States of America, and in order to establish an advisory council on science and technology, it is hereby ordered as follows:

Section 1. Purpose. In every age of our Nation's history, American ingenuity has driven technological progress and the promise of the American Dream. Scientific advancement has improved the lives of our citizens, created jobs and better futures for American workers, and kept the American people safe at home and abroad. American thinkers, inventors, and entrepreneurs, empowered by free-market capitalism and driven by bold ideas, have created an ecosystem of innovation that is the envy of the world, making our Nation prosperous and strong.

Since World War II, our Nation's greatest scientists and engineers have advised the Federal Government, guiding the United States through the nuclear age, the mission to the moon, and the transformations of the digital revolution. Emerging technologies like artificial intelligence and quantum information science are now on the horizon, and how we address their development will determine whether they give rise to new American industries or challenge American values. With American leadership facing fierce global competition, today more than ever our Nation is in need of new approaches for unleashing the creativity of our research enterprise and empowering private sector innovation to ensure American technological dominance.

Through collaborative partnerships across the American science and technology enterprise, which includes an unmatched constellation of public and private educational institutions, research laboratories, corporations, and foundations, the United States can usher extraordinary new technologies into homes, hospitals, and highways across the world. These technologies would have American values at their core. By strengthening the ties that connect government, industry, and academia, my Administration will champion a new era of American research and innovation, which will give rise to new discoveries that create the industries of the future.

Sec. 2. Establishment. The President's Council of Advisors on Science and Technology (PCAST) is hereby established. The PCAST shall be composed of the Director of the Office of Science and Technology Policy (the “Director”), and not more than 16 additional members appointed by the President. These additional members shall include distinguished individuals from sectors outside of the Federal Government. They shall have diverse perspectives and expertise in science, technology, education, and innovation. The Director shall serve as the Chair of the PCAST.

Sec. 3. Functions. (a) The PCAST shall advise the President on matters involving science, technology, education, and innovation policy. The Council shall also provide the President with scientific and technical information that is needed to inform public policy relating to the American economy, the American worker, national and homeland security, and other topics. The PCAST shall meet regularly and shall:

(i) respond to requests from the President or the Director for information, analysis, evaluation, or advice;

(ii) solicit information and ideas from a broad range of stakeholders on contemporary topics of critical importance to the Nation in order to inform policy making. Stakeholders include the research community, the private sector, universities, national laboratories, State and local governments, and non-profit organizations;

(iii) serve as the advisory committee identified in subsection 101(b) of the High-Performance Computing Act of 1991 (Public Law 102-194), as amended (15 U.S.C. 5511(b)). In performing the functions of such advisory committee, the PCAST shall be known as the President's Innovation and Technology Advisory Committee; and

(iv) serve as the advisory panel identified in section 4 of the 21st Century Nanotechnology Research and Development Act (Public Law 108-153), as amended (15 U.S.C. 7503). In performing the functions of such advisory committee, the PCAST shall be known as the National Nanotechnology Advisory Panel.

(b) The PCAST shall provide advice to the National Science and Technology Council in response to requests from that Council.

Sec. 4. Administration. (a) The heads of executive departments and agencies shall, to the extent permitted by law, provide the PCAST with information concerning scientific and technological matters when requested by the PCAST Chair.

(b) In consultation with the Director, the PCAST may create standing subcommittees and ad hoc groups, including technical advisory groups to assist the PCAST and provide preliminary information to the PCAST.

(c) The Director may request that members of the PCAST, its standing subcommittees, or ad hoc groups who do not hold a current clearance for access to classified information, receive security clearance and access determinations pursuant to Executive Order 12968 of August 2, 1995 (Access to Classified Information), as amended, or any successor order.

(d) The Department of Energy shall provide such funding and administrative and technical support as the PCAST may require.

(e) Members of the PCAST shall serve without any compensation for their work on the PCAST, but may receive travel expenses, including per diem in lieu of subsistence, as authorized by law for persons serving intermittently in the government service (5 U.S.C. 5701-5707).

Sec. 5. Termination. The PCAST shall terminate 2 years from the date of this order unless extended by the President.

Sec. 6. General Provisions. (a) Insofar as the Federal Advisory Committee Act, as amended (5 U.S.C. App.) (FACA), may apply to the PCAST, any functions of the President under the FACA, except that of reporting to the Congress, shall be performed by the Secretary of Energy in accordance with the guidelines and procedures established by the Administrator of General Services.

(b) Nothing in this order shall be construed to impair or otherwise affect:

(i) the authority granted by law to an executive department or agency, or the head thereof; or

(ii) the functions of the Director of the Office of Management and Budget relating to budgetary, administrative, or legislative proposals.

(c) This order shall be implemented consistent with applicable law and subject to the availability of appropriations.

(d) This order is not intended to, and does not, create any right or benefit, substantive or procedural, enforceable at law or in equity by any party against the United States, its departments, agencies, or entities, its officers, employees, or agents, or any other person.

Sec. 7. Revocation. Executive Order 13539 of April 21, 2010 (President's Council of Advisors on Science and Technology), as amended, is hereby revoked.

THE WHITE HOUSE,

October 22, 2019.

[FR Doc. 2019-23525

Filed 10-24-19; 8:45 am]

Billing code 3295-F0-P